DEPARTMENT OF COMMERCE

International Trade Administration

Membership of the International Trade Administration Performance Review Board

AGENCY: International Trade Administration, Department of Commerce.

ACTION: Notice of Membership on the International Trade Administration's Performance Review Board.

SUMMARY: The International Trade Administration (ITA), Department of Commerce (DOC), announces the appointment of those individuals who have been selected to serve as members of ITA's Performance Review Board. The Performance Review Board is responsible for (1) reviewing performance appraisals and ratings of Senior Executive Service (SES) members and (2) making recommendations to the appointing authority on other performance management issues, such as pay adjustments, bonuses and Presidential Rank Awards for SES. The appointment of these members to the Performance Review Board will be for a period of twenty-four (24) months.

DATES: The period of appointment for those individuals selected for ITA's Performance Review Board begins on October 22, 2021.

FOR FURTHER INFORMATION CONTACT: Christine Covington, U.S. Department of Commerce, Office of Human Resources Management, Office of Executive Resources, 14th and Constitution Avenue NW, Room 50013, Washington, DC 20230, at (202) 482-2613.

SUPPLEMENTARY INFORMATION: In accordance with 5 U.S.C. 4314(c)(4), the International Trade Administration (ITA), Department of Commerce (DOC), announces the appointment of those individuals who have been selected to serve as members of the ITA Performance Review Board. The Performance Review Board is responsible for (1) reviewing performance appraisals and ratings of Senior Executive Service (SES) members and (2) making recommendations to the appointing authority on other Performance management issues, such as pay adjustments, bonuses and Presidential Rank Awards for SES. The Appointment of these members to the Performance Review Board will be for a period of twenty-four (24) months. The name, position title, and type of appointment of each member of the Performance Review Board are set forth below:

1. Monica Gorman, Deputy Assistant Secretary for Manufacturing, Non-Career SES

2. James Maeder, Deputy Assistant Secretary for Enforcement and Compliance, Career SES

3. Anne Driscoll, Deputy Assistant Secretary for Industry and Analysis, Career SES

4. Praveen Dixit, Deputy Assistant Secretary for Trade Policy and Analysis, Career SES

5. Rona Bunn, Chief Information Officer, Career SES

6. Kurt Bersani, Chief Financial Officer and Director of Administration, OS Enterprise Services, Career SES

7. Steven Presing, Executive Director for Anti-Dumping and Subsidies Policy and Negotiation Career SES

8. Catrina Purvis, Chief Information Officer and Deputy Director for Policy Coordination and Management NTIA, Career SES

9. David DaFalco, Deputy Assistant Secretary for Europe, Career SES

10. Ian Saunders, DAS for Western Hemisphere, Career SES

11. Cara Morrow, Director of Policy, Non-Career SES

Dated: October 19, 2021.
Christine Covington,
Human Resources Specialist, Office of Executive Resources, Office of Human Resources Management.

[FR Doc. 2021-23046 Filed 10-21-21; 8:45 am]

BILLING CODE 3510-DS-P